POSTAL SERVICE

Privacy Act of 1974; System of Records

AGENCY: Postal Service™.

ACTION: Notice of modification to existing system of records.

SUMMARY: The United States Postal Service® is proposing to modify a Customer Privacy Act System of Records. These modifications reflect the addition of language preferences selected by the customer and an update to the system manager's title.

DATES: The revision will become effective without further notice on August 10, 2012 unless comments received on or before that date result in a contrary determination.

ADDRESSES: Comments may be mailed or delivered to the Records Office, United States Postal Service, 475 L'Enfant Plaza SW., Room 9431, Washington, DC 20260-2201. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service™ has reviewed this system of records and has determined that this Customer Privacy Act System of Records should be revised to modify Categories of Records in the System and the System Manager(s) and Address.

I. Background

In July 2011, the Postal Service introduced a re-designed usps.com Web site with the first launch of multilingual functionality in October 2011 and added translated content in January 2012.

Additionally, in June 2012 the Postal Service made additional management and organizational changes.

II. Rationale for Changes to USPS Privacy Act Systems of Records

The Customer Experience Improvement Project enables a broader audience to successfully interact with the Postal Service in the customer's preferred language. As a result, these updates will allow customers to permanently select which language they want to use when receiving emails from the Postal Service and when visiting usps.com.

Also, in regards to the system manager title update, there is a continuing need to reflect changes in the identity or title of responsible officials.

III. Description of Changes to Systems of Records

The Postal Service is modifying one system of records listed below. Pursuant to 5 U.S.C. 552a(e)(11), interested persons are invited to submit written data, views, or arguments on this proposal. A report of the proposed modifications has been sent to Congress and to the Office of Management and Budget for their evaluation. The Postal Service does not expect this amended notice to have any adverse effect on individual privacy rights. The affected system is as follows:

USPS 810.100.

System Name: www.usps.com Registration.

Accordingly, for the reasons stated, the Postal Service proposes changes in the existing system of records as follows:

USPS 810.100

SYSTEM NAME:

www.usps.com Registration

CATEGORIES OF RECORDS IN THE SYSTEM

* * * * *

[CHANGE TO READ]

4. Customer preferences: Preferences to receive USPS marketing information, preferences to receive marketing information from USPS partners, preferred means of contact, preferred email language and format, preferred on-screen viewing language, product and/or service marketing preference.

* * * * *

SYSTEM MANAGER(S) AND ADDRESS:

* * * * *

[CHANGE TO READ]

Chief Marketing/Sales Officer and Executive Vice President, United States Postal Service, 475 L'Enfant Plaza SW., Washington, DC 20260.

* * * * *

Stanley F. Mires,
Attorney, Legal Policy & Legislative Advice.

[FR Doc. 2012-16869 Filed 7-10-12; 8:45 am]

BILLING CODE 7710-12-P